DEPARTMENT OF ENERGY

Federal Energy Regulatory Commission

Notice of Application for Amendment of License and Soliciting Comments, Motions To Intervene, and Protests

May 8, 2003.

Take notice that the following application has been filed with the Commission and is available for public inspection:

a. Application Type: Shoreline Management Plan.

b. Project No: 271-068.

c. Date Filed: April 14, 2003.

d. Applicant: Entergy Arkansas, Inc. (Entergy).

e. Name of Project: Carpenter-Remmel Hydroelectric Project.

f. Location: On the Ouachita River, a navigable waterway of the United States, in Garland and Hot Springs Counties, Arkansas. There are 34.3 acres of federally owned lands within the project boundary around Lake Hamilton which are under the supervision of the U.S. Army Corps of Engineers (Corps).

g. Filed Pursuant to: Federal Power Act, 16 U.S.C. 791(a)-825(r).

h. Applicant Contact: Mr. Douglas R. Sikes, Manager, Hydro Operations, Entergy Arkansas, Inc., 141 West County Line Road, Malvern, AR 72104. Phone: (501) 844-2148.

i. FERC Contact: Any questions on this notice should be addressed to Shana High at (202) 502-8674, or e-mail address: shana.high@ferc.gov.

j. Deadline for filing comments and/or motions: June 9, 2003.

All documents (original and eight copies) should be filed with: Magalie R. Salas, Secretary, Federal Energy Regulatory Commission, 888 First Street, NE., Washington DC 20426. Please include the project number (271-068) on any comments or motions filed.

Comments, protests and interventions may be filed electronically via the Internet in lieu of paper. See 18 CFR 385.2001(a)(1)(iii) and the instructions on the Commission's Web site under the “e-Filing” link.

k. Description of Proposal: Entergy developed a Shoreline Management Plan (SMP) to comply with article 408 of the project license. The SMP is a comprehensive plan to manage the multiple resources and uses of the project's shorelines in a manner that is consistent with license requirements and project purposes, and to address the needs of the local public. The SMP introduces some new strategies regarding the management and permitting of shoreline activities and facilities, but is based on management practices established over the years. The SMP designates multiple classifications of the shoreline and specifies what shoreline facilities and activities will be allowed in each of the classifications to help manage non-project uses of shoreline lands within the project boundary.

l. Locations of the Application: This filing is available for review and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, please contact FERC Online Support at FERCOnlineSupport@ferc.gov or call toll-free 1-866-208-3676, or for TTY, contact (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-12017 Filed 5-13-03; 8:45 am]

BILLING CODE 6717-01-P